DEPARTMENT OF JUSTICE

Federal Bureau of Investigation

[OMB Number 1110-0021]

Training Division; FBI National Academy Level III Evaluation; Proposed Collection, Comments Requested

ACTION: 30-Day Notice of Information Collection Under Review: Approval for a reinstated collection; FBI National Academy Post-Course Questionnaire for Graduates; FBI National Academy Post-Course Questionnaire for Supervisors of Graduates.

The Department of Justice (DOJ), Federal Bureau of Investigation (FBI), Training Division's Office of Technology, Research, and Curriculum Development (OTRCD) will be submitting the following information collection request to the Office of Management and Budget (OMB) for review and approval in accordance with the Paperwork Reduction Act of 1995. The proposed information collection is published to obtain comments from the public and affected agencies.

Comments are encouraged and will be accepted for 60 days until October 19, 2009. This process is conducted in accordance with 5 CFR 1320.10.

If you have comments (especially on the estimated public burden or associated response time), suggestions, or need a copy of the proposed information collection instrument with instructions or additional information, please contact Candace Matthews, Evaluation Program Manager, Federal Bureau of Investigation, Training Division, Curriculum Development and Evaluation Unit, FBI Academy, Quantico, Virginia 22135 or facsimile at (703) 632-3111.

Written comments and suggestions from the public and affected agencies concerning the proposed collection of information are encouraged. Your comments should address one or more of the following three points:

(1) Evaluate whether the proposed collection of information is necessary for the proper performance of the functions of the agency/component, including whether the information will have practical utility;

(2) Evaluate the accuracy of the agency's/component's estimate of the burden of the proposed collection of the information, including the validity of the methodology and assumptions used;

(3) Enhance the quality, utility, and clarity of the information to be collected; and minimize the burden of the collection of information on those who are to respond, including the use of appropriate automated, electronic, mechanical, or other technological collection techniques or other forms of information technology, e.g., permitting electronic submission of responses.

Overview of This Information

1. Type of Information Collection:

Approval of a reinstated collection.

2. Title of the Forms:

FBI National Academy Post-Course Questionnaire for Graduates;

FBI National Academy Post-Course Questionnaire for Supervisors of Graduates.

3. Agency Form Number, if any, and the applicable component of the department sponsoring the collection:

Form Number: 1110-0021.

Sponsor: Training Division of the Federal Bureau of Investigation (FBI), Department of Justice (DOJ).

4. Affected Public who will be asked or required to respond, as well as a brief abstract:

Primary: FBI National Academy graduates and their identified supervisors that represent state and local police and sheriffs' departments, military police organizations, and federal law enforcement agencies from the United States and over 150 foreign nations.

Brief Abstract: This collection is requested by FBI National Academy. These surveys have been developed that will measure the effectiveness of services that the FBI National Academy provides and will utilize the graduates and their supervisors' comments to improve upon the current process.

5. An estimate of the total number of respondents and the amount of time estimated for an average respondent to respond: There are approximately 2,000 FBI National Academy graduates that will respond to the FBI National Academy Post-Course Questionnaire for Graduates. It is predicted that we will receive a 75% respond rate. The average response time for reading the directions for the FBI National Academy Post-Course Questionnaire for Graduates for the FBI National Academy graduates is estimated to be 2 minutes; time to complete the survey is estimated to be 30 minutes.

There are approximately 2,000 FBI National Academy graduates who have identified their supervisors that will respond to the FBI National Academy Post-Course Questionnaire for Supervisors of Graduates. It is predicted that we will receive a 75% respond rate. The average response time for reading the directions for the FBI National Academy Post-Course Questionnaire for Supervisors of Graduates for the supervisors is estimated to be 2 minutes; time to complete the survey is estimated to be 30 minutes. The total hour burden for both surveys is 3,088 hours.

6. An estimate of the total public burden (in hours) associated with the collection:

The average hour burden for completing all the surveys combined is 3,088 hours.

If additional information is required, contact: Ms. Lynn Bryant, Department Clearance Officer, United States Department of Justice, Policy and Planning Staff, Justice Management Division, Suite 1600, Patrick Henry Building, 601 D Street, NW., Washington, DC 20530.

Dated: August 14, 2009
Lynn Bryant,
Department Clearance Officer, PRA, United States Department of Justice.

[FR Doc. E9-20040 Filed 8-19-09; 8:45 am]

BILLING CODE 4410-02-P